CONSUMER PRODUCT SAFETY COMMISSION

16 CFR Part 1119

Civil Penalty Factors; Withdrawal of Proposed Rule

Correction

In proposed rule document E9-20590 beginning on page 43085 in the issue of Wednesday, August 26, 2009 make the following correction:

On page 43085, in the first column, the last paragraph should read “In a forthcoming issue of the Federal Register, the Commission is issuing a new interim final rule to interpret the penalty factors pursuant to section 217 of the CPSIA.”

[FR Doc. Z9-20590 Filed 8-31-09; 8:45 am]

BILLING CODE 1505-01-D